DEPARTMENT OF ENERGY

Federal Energy Regulatory Commission

[Project No. 4815-010]

EWP LLC; Notice of Application for Amendment of Exemption and Soliciting Comments, Motions To Intervene, and Protests

Take notice that the following hydroelectric application has been filed with the Commission and is available for public inspection:

a. Application Type: Amendment of Exemption.

b. Project No.: P-4815-010.

c. Date Filed: October 3, 2012.

d. Applicant: EWP LLC.

e. Name of Project: Eury Dam Project.

f. Location: The existing project is located on the Little River in Montgomery County, North Carolina. The project does not affect federal lands.

g. Filed Pursuant to: Federal Power Act, 16 U.S.C. 791(a)-825(r).

h. Applicant Contact: J. Scott Hale, Manager, EWP LLC, 125 South Elm Street, Suite 400, Greensboro, North Carolina 27401; Telephone: (336) 272-3706.

i. FERC Contact: Any questions on this notice should be addressed to Kim Carter, Telephone (202) 502-6486 or Kim.Carter@ferc.gov.

j. Deadline for filing comments, motions to intervene, and protests: December 20, 2012.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and seven copies) filed by paper should be sent to: Secretary, Federal Energy Regulatory Commission, 888 First Street NE., Washington, DC 20426. Please include the project number (P-4815-010) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: The exemptee proposes to replace two 400-kW existing submersible generating units with two Leffel Francis type generating units rated at 156 kW and 636 kW. In addition, the exemptee proposes to rebuild the existing trash racks, repair and install draft tubes, install new switch gear and new control system to ensure accurate pond level control, optimal load sharing and unit switching with minimal downtime.

l. Locations of the Application: A copy of the application is available for inspection and reproduction at the Commission's Public Reference Room, located at 888 First Street NE., Room 2A, Washington, DC 20426, or by calling (202) 502-8371. This filing may also be viewed on the Commission's Web site using the “eLibrary” link at http://elibrary.ferc.gov/idmws/search/fercgensearch.asp. Enter the docket number excluding the last three digits (P-4815) in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: November 14, 2012.
Kimberly D. Bose,
Secretary.

[FR Doc. 2012-28151 Filed 11-19-12; 8:45 am]

BILLING CODE 6717-01-P